DEPARTMENT OF AGRICULTURE

Rural Utilities Service

Tri-State Generation and Transmission Association, Inc., Notice of Intent To Hold Public Scoping Meetings and Prepare an Environmental Assessment

AGENCY: Rural Utilities Service, USDA.

ACTION: Notice of Intent to Hold Public Scoping Meetings and Prepare an Environmental Assessment.

SUMMARY: The Rural Utilities Service (RUS) intends to hold public scoping meetings and prepare an Environmental Assessment (EA) to meet its responsibilities under the National Environmental Policy Act (NEPA) and 7 CFR part 1794 in connection with potential impacts related to a proposed project in Colorado by Tri-State Generation and Transmission Association, Inc. (Tri-State) and Public Service Company of Colorado (Public Service), an Xcel Energy Operating Company. The proposed San Luis Valley-Calumet-Comanche Transmission Project (proposed action) consists of the following: a proposed 230/345-kilovolt (kV) Calumet Substation to be located approximately 6 miles north of the existing Walsenburg Substation in Huerfano County; a proposed double-circuit 230-kV transmission line between the existing San Luis Valley Substation in Alamosa County and the Calumet Substation; a proposed single-circuit 230-kV transmission line between the Calumet Substation and the Walsenburg Substation; and a proposed double-circuit 345-kV transmission line connecting the Calumet Substation to the existing Comanche Substation in Pueblo County. Tri-State is requesting that RUS provide financial assistance for the proposed action.

DATES: RUS will conduct public scoping meetings in an open house format to provide information and solicit comments for the preparation of the EA. The scoping meetings will be held on the following dates: Monday, August 17, 2009, from 4-7 p.m. at the Blanca/Fort Garland Community Center, 17591 Highway 160, Blanca, Colorado 81123; Tuesday, August 18, 2009, from 4-7 p.m. at the Alamosa Recreation Center, 2222 Old Sanford Road, Alamosa, Colorado 81101; Wednesday, August 19, 2009, from 9 a.m.-11 a.m. at the Gardner Community Center, 28 County Road 632, Gardner, Colorado 81040; Wednesday, August 19, 2009, from 4-7 p.m. at the Walsenburg Community Center, 928 Russell Avenue, Walsenburg, Colorado 81089-2155; Thursday, August 20, 2009, from 9 a.m.-11 a.m. at the Hollydot Golf Course, 55 North Parkway Drive, Colorado City, Colorado 81019; and Thursday, August 20, 2009, from 4-7 p.m. at the Sangre de Cristo Arts and Conference Center, 210 N. Santa Fe Avenue, Pueblo, Colorado 81003. All written questions and comments must be received by RUS by September 21, 2009.

ADDRESSES: To send comments or for further information, contact: Dennis Rankin, Environmental Protection Specialist, USDA Rural Utilities Service, at 1400 Independence Avenue, SW., Stop 1571, Washington, DC 20250-1571, or e-mail: dennis.rankin@wdc.usda.gov. A combined Alternative Evaluation Study (AES) and Macro Corridor Study (MCS) has been prepared for the San Luis Valley to Walsenburg portion of the proposed project, and an AES and MCS have been prepared for the Calumet to Comanche portion of the proposed project. All documents are available for public review prior to and at the public scoping meetings. The reports are available at the RUS address provided in this notice and on the agency's Web site: http://www.usda.gov/rus/water/ees/eis.htm. The documents are also available for review at the offices of Tri-State and its member cooperatives San Luis Valley Rural Electric Cooperative and San Isabel Electric Cooperative. In addition, the following repositories will have the AES and MCS available for public review:

Tri-State Generation & Transmission, 1100 West 116th Avenue, Westminster, CO 80234-2814,

San Isabel Electric Association, 893 East Enterprise Drive, Pueblo West, CO 81007-1476

La Veta Public Library District, 310 Main Street, La Veta, CO 81055-0028

Robert Hoag Rawlings Public Library, 100 East Abriendo Avenue, , Pueblo, CO 81004-4232

Costilla County Public Library, 418 Gasper Street, San Luis, CO 81152-0351

San Luis Valley Rural Electric Cooperative, 3625 U.S. Highway 160 W, Monte Vista, CO 81144-9300

Southern Peaks Public Library, 423 Fourth Street , Alamosa, CO 81101-2601

Carnegie Public Library, 120 Jefferson Street, Monte Vista, CO 81144-1797

Lamb Branch Library, 2525 South Pueblo Boulevard, Pueblo, CO 81005-2700

Spanish Peaks Library District, 323 Main Street, Walsenburg, CO 81089-1842

SUPPLEMENTARY INFORMATION: The primary purpose for the proposed action is to improve the electric service and increase reliability for Tri-State and Public Service customers in the San Luis Valley and Front Range areas. The proposed action would also provide a transmission outlet for renewable energy generation in the San Luis Valley. This proposed action will assist Tri-State and Public Service in meeting their respective transmission needs in the region by using one common transmission corridor instead of two separate corridors. This joint approach will minimize potential impacts to property owners and the environment.

Tri-State is seeking financing from RUS for its percent ownership in the proposed project. Prior to making a financial decision about whether to provide financial assistance for a proposed project, RUS is required to conduct an environmental review under the NEPA in accordance with the RUS policies and procedures codified in 7 CFR Part 1794. Government agencies, private organizations, and the public are invited to participate in the planning and analysis of the proposed action. Representatives from the RUS, Tri-State, and Public Service will be available at the scoping meetings to discuss the environmental review process, describe the proposed action, discuss the scope of environmental issues to be considered, answer questions, and accept comments. RUS will use comments and input provided by government agencies, private organizations, and the public in the preparation of the Draft EA. If RUS finds, based on the EA, that the proposed action will not have a significant effect on the quality of the human environment, RUS will prepare a Finding of No Significant Impact (FONSI). Public notification of a Finding of No Significant Impact would be published in the Federal Register and in newspapers with circulation in the project area. RUS may take its final action on proposed actions requiring an EA (§ 1794.23) any time after publication of applicant notices that a FONSI has been made and any required review period has expired. When substantive comments are received on the EA, RUS may provide an additional period (15 days) for public review following the publication of its FONSI determination. Final action will not be taken until this review period has expired. Where appropriate to carry out the purposes of NEPA, RUS may impose, on a case-by-case basis, additional requirements associated with the preparation of an EA. If at any point in the preparation of an EA, RUS determines that the proposed action will have a significant effect on the quality of the human environment, the preparation of an Environmental Impact Statement will be required.

Any final action by RUS related to the proposed action will be subject to, and contingent upon, compliance with all relevant Federal, State, and local environmental laws and regulations and completion of the environmental review requirements as prescribed in the RUS Environmental Policies and Procedures (7 CFR part 1794).

Dated: July 28, 2009.
Mark S. Plank,
Director, Engineering and Environmental Staff, Rural Utilities Service.

[FR Doc. E9-18413 Filed 7-31-09; 8:45 am]

BILLING CODE P